DEPARTMENT OF HEALTH AND HUMAN SERVICES

Centers for Disease Control and Prevention

[Program Announcement 00095]

Cooperative Agreement for Birth Defects Surveillance, Research, and Prevention Activities; Notice of Availability of Funds

A. Purpose

The Centers for Disease Control and Prevention (CDC) announces the availability of fiscal year (FY) 2000 funds for a cooperative agreement program for the University of South Alabama Birth Defects Surveillance, Research, and Prevention Activities.

B. Eligible Applicants

Single Source: Assistance will be provided only to the University of South Alabama. No other applications are solicited.

This authority is granted under the Consolidated Appropriations Act 2000 (Public Law 106-113), which states: “* * * under section 1509 of the Public Health Service Act * * * $1,000,000 shall be for the University of South Alabama birth defects monitoring and prevention activities.”

C. Availability of Funds

Approximately $800,000 is available in FY 2000 to fund this award. It is expected that the award will begin on or about September 30, 2000, and will be made for a 12-month budget period within a project period of only 1 year. Funding estimates may change.

D. Where To Obtain Additional Information

If you have questions after reviewing the contents of all the documents, business management technical assistance may be obtained from: William A. Paradies, Grants Management Specialist, Grants Management Branch, Procurement and Grants Office, Centers for Disease Control and Prevention, 2920 Brandywine Road, Room 3000, Atlanta, GA 30341-4146, Telephone number (770) 488-2721, Email address: WParadies@cdc.gov.

For program technical assistance, contact: Larry D. Edmonds, State Services, Birth Defects and Pediatric Genetics Branch, Division of Birth Defects, Child Development, Disability and Health, National Center for Environmental Health, Centers for Disease Control and Prevention (CDC), 4770 Buford Highway NE., Mailstop F-45, Atlanta, GA 30341-3724, Telephone number (770) 488-7171, E-mail address: LEdmonds@cdc.gov.

Dated: June 27, 2000.
John L. Williams,
Director, Procurement and Grants Office, Centers for Disease Control and Prevention (CDC).

[FR Doc. 00-16719 Filed 6-30-00; 8:45 am]

BILLING CODE 4163-18-P